FEDERAL COMMUNICATIONS COMMISSION

Sunshine Act Meeting; Open Commission Meeting, Thursday, April 28, 2005

April 21, 2005.

The Federal Communications Commission will hold an Open Meeting on the subjects listed below on Thursday, April 28, 2005, which is scheduled to commence at in Room TW-C305, at 445 12th Street, SW., Washington, DC.

Item No. | Bureau | Subject
1 | International | Title: Mandatory Electronic Filing for International Telecommunications Services and Other International Filings (IB Docket No. 04-426).
|  | Summary: The Commission will consider a Report and Order concerning the Mandatory Electronic Filing for International Telecommunications Services.
2 | Media | Title: Implementation of Section 210 of the Satellite Home Viewer Extension and Reauthorization Act of 2004 to Amend Section 338 of the Communications Act.
|  | Summary: The Commission will consider a Notice of Proposed Rulemaking that initiates a proceeding to implement new satellite broadcast carriage requirements in the noncontiguous states.
3 | Wireline Competition | Title: Implementation of the Telecommunications Act of 1996; Telecommunications Carriers' Use of Customer Proprietary Network Information and Other Customer Information (CC Docket No. 96-115); Implementation of the Local Competition Provisions of the Telecommunications Act of 1996 (CC Docket No. 96-98); and Provision of Directory Listing Information under the Communications Act of 1934, as Amended (CC Docket No. 99-273).
|  | Summary: The Commission will consider an Order addressing petitions for clarification and/or reconsideration of the Subscriber List Information (SLI)/Directory Assistance (DA) First Report and Order, and SLI/DA Order on Reconsideration and Notice.
4 | Office of Engineering and Technology | Title: Technical Standards for Determining Eligibility for Satellite-Delivered Network Signals Pursuant to the Satellite Home Viewer Extension and Reauthorization Act.
|  | Summary: The Commission will consider a Notice of Inquiry regarding standards that allow viewers that are unserved by a digital television broadcast station to receive network programming via satellite.

The meeting site is fully accessible to people using wheelchairs or other mobility aids. Sign language interpreters, open captioning, and assistive listening devices will be provided on site. Request other reasonable accommodations for people with disabilities as early as possible. Last minute requests will be accepted, but may be impossible to fill. Send an e-mail to fcc504@fcc.gov or call the Consumer & Governmental Affairs Bureau at (202) 418-0530 (voice), (202) 418-0432 (tty).

Additional information concerning this meeting may be obtained from Audrey Spivack or David Fiske, Office of Media Relations, (202) 418-0500; TTY 1-888-835-5322. Audio/Video coverage of the meeting will be broadcast live with open captioning over the Internet from the FCC's Audio/Video Events Web page at http://www.fcc.gov/realaudio.

For a fee this meeting can be viewed live over George Mason University's Capitol Connection. The Capitol Connection also will carry the meeting live via the Internet. To purchase these services call (703) 993-3100 or go to http://www.capitolconnection.gmu.edu.

Copies of materials adopted at this meeting can be purchased from the FCC's duplicating contractor, Best Copy and Printing, Inc. (202) 488-5300; Fax (202) 488-5563; TTY (202) 488-5562. These copies are available in paper format and alternative media, including large print/type; digital disk; and audio and video tape. Best Copy and Printing, Inc. may be reached by e-mail at fcc@bcpiweb.com.

Federal Communications Commission.
Marlene H. Dortch,
Secretary.

[FR Doc. 05-8407 Filed 4-22-05; 1:20 pm]

BILLING CODE 6712-01-P